DEPARTMENT OF COMMERCE

International Trade Administration

A-533-809

Certain Forged Stainless Steel Flanges from India; Final Rescission of Antidumping Duty New Shipper Review

AGENCY: Import Administration, International Trade Administration, Department of Commerce.

SUMMARY: On June 6, 2008, the Department of Commerce (the Department) published the preliminary intent to rescind the new shipper review of the antidumping duty order on certain forged stainless steel flanges (stainless steel flanges) from India manufactured by Hotmetal Forge (India) Pvt., Ltd. (Hotmetal) covering the period February 1, 2007, through July 31, 2007. See Certain Forged Stainless Steel Flanges from India; Preliminary Intent to Rescind New Shipper Review, 73 FR 32291 (June 6, 2008) (Preliminary Intent). As we received no comments or new information after the publication of the Preliminary Intent, we have made no changes to our preliminary decision to rescind the new shipper review.

EFFECTIVE DATE: July 18, 2008.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On June 6, 2008, the Department published the Preliminary Intent. We invited comments to comment on the Preliminary Intent, and received no comments.

Period of Review

The period of review (POR) is February 1, 2007, to July 31, 2007.

Rescission of New Shipper Review

In the Preliminary Intent, we stated that we intended to rescind the review with respect to Hotmetal because we had determined, based on the totality of the circumstances, that Hotmetal's U.S. sales were not bona fide. See Preliminary Intent at 32291. Hotmetal submitted no comments, and we have found no basis for changing the determination announced in the Preliminary Intent. Therefore we are rescinding the new shipper review.

Assessment of Antidumping Duties

A cash deposit of 162.14 percent shall be collected for any entries produced/exported by Hotmetal. The Department will issue appropriate assessment instructions directly to CBP fifteen days after the publication of this notice.

Notification to Interested Parties

This notice also serves as a final reminder to importers of their responsibility under 19 CFR 351.402(f)(2) to file a certificate regarding the reimbursement of antidumping duties prior to liquidation of the relevant entries during this review period. Failure to comply with this requirement could result in the Department's presumption that reimbursement of antidumping duties occurred, and the subsequent assessment of double antidumping duties.

We are issuing and publishing this notice in accordance with sections 751(a)(1) and 777(i)(1) of the Tariff Act.

Dated: July 14, 2008.
David M. Spooner,
Assistant Secretary for Import Administration.

[FR Doc. E8-16497 Filed 7-17-08; 8:45 am]

BILLING CODE 3510-DS-S